DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Room 2104, U.S. Department of Commerce, Statutory Import Programs Staff, Room 2104, 14th and Constitution Avenue, NW, Washington, DC.

Docket Number: 06-018. Applicant: University of Alabama, 201 7th Ave., A129 Bevill Building, Tuscaloosa, AL 35487. Instrument: Electron Microscope, Model Technai G2 F20 S-TWIN. Manufacturer: FEI Company, The Netherlands. Intended Use: The instrument is intended to be used for research programs involving fuel cells, magnetic information storage, catalysis, joining, and thin films. Materials studied include Pt-alloy nanoparticles, TiAl thin film coating and Cu-Sn alloys for welding. It will also be used for graduate student instruction and training. Application accepted by Commissioner of Customs: April 24 2006.

Docket Number: 06-019. Applicant: University of Pittsburgh, Dept. Of ECE, 348 Benedum Hall, 3700 O'Hara Street, Pittsburgh, PA 15261. Instrument: Electron Microscope, Model JEM-2100F. Manufacturer: JEOL Ltd., Japan. Intended Use: The instrument is intended to be used for probing of how elemental composition, chemistry (bonding) and internal structure at the sub-nanometer scale are affected by processing and influence properties of materials, and to study phenomena associated with processing of high-performance metals, intermetallics, multi-functional oxide ceramics, various types of thin films, nanoparticles in catalysis, oxidation and corrosion behavior, phase transformations and crystal defects. Application accepted by Commissioner of Customs: April 24, 2006.

Docket Number: 06-020. Applicant: Middle Tennessee State University, 1114 Cope Building, 1301 East Main Street, Murfreesboro, TN 37132. Instrument: Electron Microscope, Model H-7650 TEM. Manufacturer: Hitachi High Technologies, Japan. Intended Use: The instrument is intended to be used to image samples with thicknesses (diameters) less than 1000 nm. Studies include: (1) Characterization of chemically prepared biological structures at high resolution to demonstrate the structure and function of components, (2) heavy-metal-stained biological samples (e.g., bacterial cells within an amoeba) and (3) metrology of discrete particles (e.g., colloidal silica). It will also be used for a training course in electron microscopy. Application accepted by Commissioner of Customs: April 24, 2006.

Docket Number: 06-021. Applicant: The University of Texas, Southwestern Medical Center at Dallas, 5323 Harry Hines Boulevard, Dallas, TX 75390-9056. Instrument: Electron Microscope, Model Technai G2 Spirit BioTwin. Manufacturer: FEI Company, Czech Republic. Intended Use: The instrument is intended to be used to study biological molecules, cells, tissues, organs and microorganisms to determine both normal biological structure and changes which may have occurred during either disease or by experimental manipulation in order to improve patient care and treatment. Application accepted by Commissioner of Customs: April 25, 2006.

Docket Number: 06-022. Applicant: Battelle Memorial Institute, Pacific Northwest Division, 902 Battelle Blvd., Richland, WA 99352. Instrument: Electron Microscope, Model Technai G2 Sprint TWIN. Manufacturer: FEI Company, Czech Republic. Intended Use: The instrument is intended to be used for the development of 3-dimensional reconstruction by TEM tomography based on acquirement of tilt series of a biological specimen, and its software reconstruction and rendering. This will provide a vital tool for morphological and functional studies in the area of cell biology and proteomics. Application accepted by Commissioner of Customs: May 2, 2006.

Docket Number: 06-023. Applicant: University of California, Lawrence Berkeley Lab for the US Department of Energy, One Cyclotron Road, BLDG 69, Berkeley, CA 94720, P.O. Box 528, Berkeley, CA 94701. Instrument: Electron Microscope, Model JEM-2100. Manufacturer: JEOL, Ltd., Japan. Intended Use: The instrument is intended to be used for high-resolution electron microscopy for characterization of nanostructures combined with Z contrast and element identification, description of interfaces grown on top of each other and growth polarity identification of particular crystals and description of their point groups. Application accepted by Commissioner of Customs: May 4, 2006.

Docket Number: 06-024. Applicant: The University of Alabama, 411 Hackberry Lane, Tuscaloosa, AL 35487-0344. Instrument: Electron Microscope, Model H-7650-II TEM. Manufacturer: Hitachi High-Technologies Corp, Japan Use: The instrument is intended to be used to examine and study the structure and functions of cells and organisms including basic description of cells, comparative studies of structure as a result of various treatments, and localization of proteins within cells. It will also be used for diverse educational purposes. Application accepted by Commissioner of Customs: May 5, 2006.

Docket Number: 06-025. Applicant: The Ohio State University, Campus Microscopy and Imaging Facility, 4029 Graves Hall, 333 West 10th Ave., Columbus, OH 43210. Instrument: Electron Microscope, Model Technai G2 Spirit BioTwin. Manufacturer: FEI Company, Czech Republic. Intended Use: The instrument is intended to be used by a multi-disciplinary central instrumentation facility to provide nano-technology capability to its SEM laboratory. It will be used for a number of different electron microscopic techniques, including ultra-high resolution imaging, both with and without surface coating at a wide range of voltages for both biological and material applications. It will also be used for diverse educational purposes. Application accepted by Commissioner of Customs: May 5, 2006.

Docket Number: 06-026. Applicant: The New York Structural Biology Center, 89 Covenant Avenue at 133rd St., New York, NY 10027. Instrument: Electron Microscope, Model JEM-3200FSC. Manufacturer: JEOL Ltd., Japan. Intended Use: The instrument is intended to be used by ten educational and research institutions in New York to investigate, among other things, biological assemblies ranging from isolated protein molecules, complexes of protein molecules potentially bound to nucleic acids or membranes, crystalline arrays composed of these protein complexes, cells, viruses, or intact tissues to pursue a wide variety of biological problems. In addition to standard methods of electron microscopy, work will be done using the procedure of electron tomography which is like a CAT scan at molecular proportions, involving the imaging of a given cellular assembly which is systematically tilted to different angles. It will also be used in student courses. Application accepted by Commissioner of Customs: May 5, 2006.

Docket Number: 06-027. Applicant: The University of Akron, 302 Buchtel Common, Akron, OH 44325. Instrument: Electron Microscope, Model JEM-1230. Manufacturer: Joel Ltd., Japan. Intended Use: The instrument is intended to be used for graduate research education purposes and in class-oriented educational purposes. Major use will be in polymer microscopy in applications including, but not limited to: polymer fibers, films and membranes; polycrystalline materials; engineering resins, rubber and plastics; emulsions and adhesives and inorganic and organic nano particles. Application accepted by Commissioner of Customs: May 5, 2006.

Docket Number: 06-028. Applicant: Clarion Health Partners, 1701 N. Senate Blvd., Indianapolis, IN 46204. Instrument: Electron Microscope, Model Technai G2 Spirit BioTwin. Manufacturer: FEI Company, Czech Republic. Intended Use: The instrument is intended to be used to study various ultrastructural morphologic aspects of normal and pathological cells and tissues. Examples of recent research include 3-D glomerular imaging of renal biopsies, nephropathology in patients with Brushite nephrolithiasis and ischemic disruption of myosin I beta in renal tubules. Application accepted by Commissioner of Customs: May 5, 2006.

Docket Number: 06-029. Applicant: U.S. Department of Commerce, National Institute of Standards and Technology, 100 Bureau Drive, Gaithersburg, MD 20899. Instrument: Aberration-Corrected Monochromated Electron Microscope, Model ACEM: Technai G3 TF30CSP. Manufacturer: FEI Company, The Netherlands . Intended Use: The instrument is intended to be used to measure and characterize nanoscale devices and nanoscale materials for nanotechnology research including: electron and x-ray nanotomography; 3-D chemical imaging; critical dimension metrology for semiconductor devices; nanoparticle characterization and will use various other techniques for studying a very broad range of materials. Application accepted by Commissioner of Customs: May 9, 2006.

Docket Number: 06-030. Applicant: Florida State University, Department of Biological Science, 119 Biology Unit I, 4370, Tallahassee, FL 32306 Instrument: Electron Microscope, Model Nova 400 NanoSEM. Manufacturer: FEI Company, Czech Republic. Intended Use: The instrument is intended to be used for studies on: comparative morphology of insects; cellular and tissue engineering; cell morphology on different surfaces; formation of semi-crystalline polymers; use of diatoms and other materials as templates for nanostructures; use of photocatalysts active in the synthesis of marine natural products used as anti-cancer drugs and a wide range of other structural studies. Application accepted by Commissioner of Customs: May 9, 2006.

Docket Number: 06-031. Applicant: Jackson State University, 1400 J.R. Lynch Street, Box 18540. Instrument: Electron Microscope, Model JEM-1011 Manufacturer: JEOL Ltd., Japan. Intended Use: The instrument is intended to be used to study: (1) The molecular structures of various mammalian cells, and compare the morphology of various cell lines; (2) assess the cytotoxicity of various therapeutic and environmental compounds; (3) perform apoptosis studies with these compounds; and (4) study their potential effects at the cellular and molecular levels. It will also be used in courses and training in its operation by students. Application accepted by Commissioner of Customs:May 11, 2005.

Docket Number: 06-032. Applicant: Smithsonian Institution. Instrument: Electron Microscope, Model Nova 600 NanoSEM. Manufacturer: FEI Company, Czech Republic. Intended Use: The instrument is intended to be used for research regarding geological, mineralogical and planetary science by imaging and analyzing natural materials for their chemical composition (minerals, meteorites and rock specimens) at the microscopic scale. Application accepted by Commissioner of Customs: May 15, 2006.

Docket Number: 06-033. Applicant: University of North Florida, 4567 St. Johns Bluff Rd. South, Jacksonville FL 32224. Instrument: Electron Microscope, Model Quantum 200 ESEM. Manufacturer: FEI Company, Czech Republic. Intended Use: The instrument is intended to be used to: (1) Optimize growth conditions for nanocrystalline ITO thin films and to fabricate gas sensor arrays, (2) study surface morphology, electrical response and chemical analysis of nanocrystalline thin films and gas sensor arrays in the presence of different gases and (3) investigate the surface conditions as well as structural properties of PICM sensors. Application accepted by Commissioner of Customs: May 19, 2006.

Docket Number: 06-034. Applicant: NYS Institute for Basic Research, 1050 Forest Hill Road, Staten Island, NY 10314. Instrument: Electron Microscope, Model H-7500. Manufacturer: Hitachi High-Technologies Corporation, Japan. Intended Use: The instrument is intended to be used to study brain, spinal chord, tissue-cultured cells and chromosomes from humans and animals. Priority areas of research include autism, infant development, fragile X syndrome, Down syndrome, neurodegenerative diseases, pediatric AIDS and other neuroinfectious diseases, environmental neurotoxicology, pharmaceutical therapy and brain development and pathology. It will also be used for student training in research methods in electron microscopy. Application accepted by Commissioner of Customs: May 17, 2006.

Docket Number: 06-035. Applicant: Carnegie Mellon University, 5000 Forbes Avenue, Pittsburgh, Pa 15213. Instrument: Electron Microscope, Model Nova 600 NanoLab Dual Beam. Manufacturer: FEI Company, The Netherlands. Intended Use: The instrument is intended to be used to study: (1) Grain boundary energy on a wide range of metal, ceramic and semiconductor materials, (2) in-situ serial section for multi-image plans for 3-D analysis of grain boundary energy, (2) thin films of multi-layer materials in semiconductor devices and magnetic recording media and (3) the role of defects in the growth mechanisms of semiconductor substrates. Application accepted by Commissioner of Customs: May 19, 2006.

Docket Number: 06-036. Applicant: Texas Tech University, Health Sciences Center, 3601 4th Street, Stop 9042, Lubbock, TX 79430. Instrument: Electron Microscope, Model H-7650-II TEM. Manufacturer: Hitachi High-Technologies Corporation, Japan . Intended Use: The instrument is intended to be used to study, among other things, (1) The diagnosis of disease processes (e.g., examining the basement membrane of the kidney), (2) a blood substitute project will analyze human coronary endothelial cells, brain capillary endothelial cells, astrocytes, and neurons; cells in culture will be fixed, embedded in epon and thin sections will be examined for changes in cell structure and (3) vein leaflets will be fixed in glutaraldehyde, embedded in epon, and thin sections will be examined. Application accepted by Commissioner of Customs: May 24, 2006.

Docket Number: 06-037. Applicant: Wesleylan University, Biology Dept., Hall-Atwater Labs, Lawn Ave., Middletown, CT 06459-0170 Instrument: Micromanipulators and control system, temperature control and movable top plate. Manufactuurer: Scientifica, United Kingdom. Intended Use: The instrument is intended to be used to correlate the data taken from “movies” of cortical activity in the mouse with the activity recorded from a single neuron recorded intracellularly. The movie is then used to simultaneously monitor the action potential activity of hundreds of neurons to infer subthreshold activity in other non-proximal neurons. Application accepted by Commissioner of Customs: June 6, 2006.

Docket Number: 06-038. Applicant: The Ohio State University,Campus Microscopy and Imaging Facility, 4029 Graves Hall, 333 West 10th Ave., Columbus, OH 43210. Instrument: Electron Microscope, Model Technai G2 Spirit BioTwin. Manufacturer: FEI Company, Czech Republic. Intended Use: The instrument is intended to be used in the campus microscopy and imaging facility, a multi-disciplinary central instrumentation facility at the university and will be used to study many different types of biological and non-biological materials, including many different types of solid-state materials including materials used for nano-fabrication studies. It will be used for both research and educational purposes including microscopy classes as well as individual training of faculty, staff and students. Application accepted by Commissioner of Customs: June 29, 2006.

Docket Number: 06-039. Applicant: University of Louisville, Speed School Of Engineering, Ernst Hall Room 106, Louisville, KY, 40292. Instrument: Electron Microscope, Model Technai G2 F-20 X-TWIN. Manufacturer: FEI Company, The Netherlands. Intended Use: The instrument is intended to be used in materials science leading to the development of new materials focusing on carbon-free energy, the development of alternate fuels such as hydrogen and biomass-derived ethanol products and structural biology including biochemistry, molecular biology, genetics and molecular medicine. It will also be used to offer in-depth courses and hands-on seminars on high resolution transmission electron microscopy. Application accepted by Commissioner of Customs: July 10, 2006.

Docket Number: 06-040. Applicant: UC Irvine Medical Center, 101 The City Drive, Orange, CA, 92868. Instrument: Electron Microscope, Model Technai G2 Spirit. Manufacturer: FEI Company, Czech Republic. Intended Use: The instrument is intended to be used as a requirement for accreditation of the Pathology residency program. It will be used in the study of renal pathology, muscle and tumor pathology, study of ciliary structure, parasitic protozoan infections in Aids and in viral infection. Application accepted by the Commissioner of Customs: July 10, 2006.

Docket Number: 06-041. Applicant: University of Illinois at Chicago, Department of Physics (m/c 273), 845 West Taylor Street, Chicago, IL 6067-7059. Instrument: Beam Stabilizing System Manufacturer: Laser Laboratorium Gottingen, Germany. Intended Use: The instrument is intended to be used as a compatible accessory for an existing KrF Laser which will be developed to improve the beam quality of the laser maximizing the possibility of a uniform beam with an even wavefront for ultraviolet operation at 248 nm with extension of operation into the x-ray range of. 29 nm for general studies of the interaction of intense radiation with matter. Application accepted by the Commissioner of Customs: July 7, 2006.

Docket Number: 06-042. Applicant: The University of Illinois at Urbana-Champaign, 616 Green Street, Suite 212, Champaign, IL 61820. Instrument: Electron Microscope, Model JEM-220FS with STEM & Monochrometer. Manufacturer: JEOL Ltd., Japan. Intended Use: The instrument is intended to be used as a major part of the Center for Microanalysis of Materials, a shared research facility at the University of Illinois at Urbana-Champaign. The range of materials to be studied is very broad and under the direction of the current facility Principal Investigators and their graduate students from approximately ten university departments. One of the main goals of this instrument is to develop new imaging techniques to resolve the structure of materials with atomic resolution in three dimensions. Application accepted by the Commissioner of Customs: July 10, 2006.

Docket Number: 06-043. Applicant: SUNY Upstate Medical University, 750 East Adams Street, Syracuse, NY 13210. Instrument: Electron Microscope, Model JEM-2100. Manufacturer: JEOL Ltd., Japan. Intended Use: The Instrument is intended to be used to study, among other things, the structure of Pgp to visualize the structural changes Pgp is undergoing during the catalytic cycle, to calculate a three dimensional model of Pgp trapped at the different steps during ATP hydolysis and drug transport and to optimize the conditions under which we currently generate two dimensional crystals of Pgp in its native environment, the lipid layer. Application accepted for transmittal to the Commissioner of Customs: July 10, 2000.

Docket Number: 06-044. Applicant: Columbia University, 530 West 120th Street - Room 1001, New York, NY 10027. Instrument: Ultra-High Vacuum Low Temperature Scanning Tunneling Microscope. Manufacturer: Omicron Nano Technology, Germany. Intended Use: The instrument is intended to be used for studying the atomic structure of surfaces; the structure and order of adsorbed monolayers; the electronic properties of the surfaces and adsorbate-covered surfaces. Additionally, the dynamics of change of these properties following heating, cooling, adsorption desorption and laser excitation will be examined. Scanning tunneling microscopy will be conducted at cryogenic temperatures of 4K. Application accepted by the Commissioner of Customs: July 10, 2006.

Docket Number: 06-045. Applicant: Purdue University, WTHR Laboratory of Chemistry, 560 Oval Drive, West Lafayette, IN 47907-2084. Instrument: Nd:YAG Laser/dye laser. Manufacturer: InnoLas, Germany. Intended Use: The instrument is intended to be used for fundamental research studies of the properties of molecules, the way in which they isomerize and how they use energy from a laser to isomerize or react. The laser will excite the molecules of interest to excited electronic states, from which they will either fluoresce or are excited further to ionize before detection. It will be used for training and courses in modern, experimental physical chemistry research. Application accepted by the Commissioner of Customs: July 10,2006.

Gerald A. Zerdy,
Program Manager, Florence Agreement Program.

[FR Doc. E6-11968 Filed 7-26-06; 8:45 am]

BILLING CODE: 3510-DS-S